NATIONAL AERONAUTICS AND SPACE ADMINISTRATION

[Notice (08-074)]

Government-Owned Inventions, Available for Licensing

AGENCY: National Aeronautics and Space Administration.

ACTION: Notice of Availability of Inventions for Licensing.

SUMMARY: A patent application on the invention listed below assigned to the National Aeronautics and Space Administration, has been filed in the United States Patent and Trademark Office, and is available for licensing.

DATES: October 9, 2008.

FOR FURTHER INFORMATION CONTACT: Randy Heald, Patent Counsel, Kennedy Space Center, Mail Code CC-A, Kennedy Space Center, FL 32899; telephone (321) 867-7214; fax (321) 867-1817.

NASA Case No. KSC-12909: Repair Procedure Development System.

Dated: October 3, 2008.
Michael C. Wholley,
General Counsel.

[FR Doc. E8-24035 Filed 10-8-08; 8:45 am]

BILLING CODE 7510-13-P